DEPARTMENT OF ENERGY

Federal Energy Regulatory Commission

Combined Notice of Filings #1

Take notice that the Commission received the following electric corporate filings:

Docket Numbers: EC22-2-000.

Applicants: Stanly Solar, LLC, PGR 2021 Lessee 1, LLC.

Description: Joint Application for Authorization Under Section 203 of the Federal Power Act of Stanly Solar, LLC, et al.

Filed Date: 10/1/21.

Accession Number: 20211001-5377.

Comment Date: 5 p.m. ET 10/22/21.

Take notice that the Commission received the following electric rate filings:

Docket Numbers: ER21-1280-003.

Applicants: Southern California Edison Company.

Description: Compliance filing: SCE Refile Compliance Filing—Morongo WOD Formula Rate Protocols to be effective 5/5/2021.

Filed Date: 10/6/21.

Accession Number: 20211006-5076.

Comment Date: 5 p.m. ET 10/20/21.

Docket Numbers: ER21-2819-001.

Applicants: South Field Energy LLC.

Description: Tariff Amendment: Supplemental Filing of South Field Energy LLC and Request for Waiver to be effective 10/1/2021.

Filed Date: 10/6/21.

Accession Number: 20211006-5113.

Comment Date: 5 p.m. ET 10/27/21.

Docket Numbers: ER21-2944-000.

Applicants: Pacific Gas and Electric Company.

Description: Notice of Termination of Service Agreement for Gilroy Energy Center, LLC, Service Agreement (No. 25) of Pacific Gas and Electric Company.

Filed Date: 9/24/21.

Accession Number: 20210924-5182.

Comment Date: 5 p.m. ET 10/15/21.

Docket Numbers: ER22-48-000.

Applicants: Gridflex Generation, LLC.

Description: Baseline eTariff Filing: Application for Market-Based Rate to be effective 12/6/2021.

Filed Date: 10/5/21.

Accession Number: 20211005-5107.

Comment Date: 5 p.m. ET 10/26/21.

Docket Numbers: ER22-49-000.

Applicants: Tri-State Generation and Transmission Association, Inc.

Description: § 205(d) Rate Filing: Initial Filing of Rate Schedule No. 335 to be effective 12/6/2021.

Filed Date: 10/6/21.

Accession Number: 20211006-5018.

Comment Date: 5 p.m. ET 10/27/21.

Docket Numbers: ER22-50-000.

Applicants: Midcontinent Independent System Operator, Inc.

Description: Annual Calculation of the Cost of New Entry value (“Cone”) for each Local Resource Zone (“LRZ”) in the MISO Region of Midcontinent Independent System Operator, Inc.

Filed Date: 10/4/21.

Accession Number: 20211004-5267.

Comment Date: 5 p.m. ET 10/25/21.

Docket Numbers: ER22-51-000.

Applicants: PJM Interconnection, L.L.C.

Description: § 205(d) Rate Filing: Original NSA, SA No. 6191; Queue No. P11 to be effective 9/9/2021.

Filed Date: 10/6/21.

Accession Number: 20211006-5086.

Comment Date: 5 p.m. ET 10/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2021.
Debbie-Anne A. Reese,
Deputy Secretary.

[FR Doc. 2021-22219 Filed 10-12-21; 8:45 am]

BILLING CODE 6717-01-P